DEPARTMENT OF HEALTH AND HUMAN SERVICES

Centers for Disease Control and Prevention

[60Day-18-0278]

Proposed Data Collection Submitted for Public Comment and Recommendations—National Hospital Ambulatory Medical Care Survey (NHAMCS)

AGENCY: Centers for Disease Control and Prevention (CDC), Department of Health and Human Services (HHS).

ACTION: Notice; correction.

SUMMARY: The Centers for Disease Control and Prevention (CDC) requested publication of a document in the Federal Register. Document 2017-25496, Proposed Data Collection Submitted for Public Comment and Recommendations—National Hospital Ambulatory Medical Care Survey (NHAMCS), has been scheduled to publish on November 27, 2017. The document provided the incorrect docket number (CDC-2018-0101).

FOR FURTHER INFORMATION CONTACT: Leroy Richardson, 1600 Clifton Road, MS D-74, Atlanta, GA 30333; telephone (404) 639-4965; email: omb@cdc.gov.

Correction

Correct the docket number on the ADDRESSES line to read: Docket No. CDC-2017-0101.

Dated: November 24, 2017.
Leroy A. Richardson,
Chief, Information Collection Review Office, Office of Scientific Integrity, Office of the Associate Director for Science, Office of the Director, Centers for Disease Control and Prevention.

[FR Doc. 2017-25778 Filed 11-29-17; 8:45 am]

BILLING CODE 4163-18-P